DEPARTMENT OF THE INTERIOR

Bureau of Land Management

[OR-025-06-5870-EU; HAG 06-0165]

Sale of Public Land; Harney County, OR

AGENCY: Bureau of Land Management, Interior.

ACTION: Notice of realty action.

SUMMARY: This notice announces the proposed sale of 24 parcels of public land, totaling 2905.42 acres, located in Harney County, Oregon at not less than appraised market value. These parcels are proposed to be sold through competitive and modified competitive procedures.

DATES: Written comments concerning the proposed sale must be received by the BLM on or before December 1, 2006.

ADDRESSES: Address all written comments to Joan Suther, Three Rivers Resource Area Field Manager, Burns District Office, 28910 Hwy 20 West, Hines, Oregon 97738. Comments expressed verbally or in electronic format will not be accepted.

FOR FURTHER INFORMATION CONTACT: Skip Renchler, Realty Specialist, at (541) 573-4443.

SUPPLEMENTARY INFORMATION: The following described public lands in Harney County, Oregon are suitable for sale under Sections 203 and 209 of the Federal Land Policy and Management Act of 1976 (90 Stat. 2750, 43 U.S.C. 1713 and 1719). The lands are difficult and uneconomic to manage as a part of the public lands and are not suitable for management by another Federal agency. No significant resource values will be affected by this disposal. The parcels proposed for sale are identified as suitable for disposal in the Three Rivers Resource Management Plan, dated August 1992. All of the land described is within the Willamette Meridian. The parcels proposed for sale are identified as follows.

Serial No. | Legal description | Acres | Market value/ minimum bid | Bidding procedure | Designated bidder(s)
OR-56577 | T.27 S., R.34 E., sec. 21, NE¼SE¼ | 40.00 | $3,400 | Competitive | None.
OR-61541 | T.19 S., R.34 E., sec. 17, E½NW¼ | 80.00 | 16,000 | Modified Competitive | John and Judy Ahmann.
OR-61542 | T.22 S., R.30 E., sec. 7, lot 3, NE¼SW¼, NW¼SE¼ | 119.53 | 22,700 | Competitive | None.
OR-61543 | T.22 S., R.30 E., sec. 10, lot 1. | 0.51 | 200 | Modified Competitive | Gerard J. LaBrecque
OR-61544 | T.24 S., R.33 E., sec. 30, NE¼ | 160.00 | 21,600 | Competitive | None.
OR-61545 | T.24 S., R.33 E., sec. 33, E½NE¼; sec. 34, N½NW¼, SW¼NW¼, NW¼SW¼ | 240.00 | 58,100 | Competitive | None.
OR-61546 | T.25 S., R.32½ E., sec. 13, W½NE¼ | 80.00 | 9,100 | Competitive | None.
OR-61547 | T.25 S., R32½ E., sec. 24, lot 2, NW¼NE¼ | 79.81 | 9,200 | Competitive | None.
OR-61548 | T.26 S., R.30 E., South of Malheur Lake, sec. 35, E½SE¼; T.27 S., R.30 E., sec. 2, lot 1 | 119.76 | 19,100 | Competitive | None.
OR-61549 | T.26 S., R.31 E., North of Malheur Lake, sec. 5, four unnumbered government lots in N½N½ | 160.00 | 16,800 | Competitive | None.
OR-61550 | T.26 S., R.31 E., North of Malheur Lake, sec. 5, S½SW¼; sec. 6, S½SE¼; sec. 7, NE¼NE¼ | 200.00 | 19,600 | Competitive | None.
OR-61551 | T.26 S., R.31 E., North of Malheur Lake, sec. 9, S½NW¼ | 80.00 | 8,000 | Competitive | None.
OR-61552 | T.26 S., R.31 E., North of Malheur Lake, sec. 22, S½NW¼ | 80.00 | 8,000 | Competitive | None.
OR-61553 | T.26 S., R.33 E., sec 34, N½NW¼ | 80.00 | 9,800 | Competitive | None.
OR-61554 | T.26 S., R.34 E., sec. 4, SW¼SW¼; sec. 5, SE¼SE¼ | 80.00 | 6,800 | Modified Competitive | Bell A Grazing Cooperative, Thompson Ranches, Inc.
OR-61555 | T.26 S., R.34 E., sec. 8, NE¼NW¼ | 40.00 | 3,900 | Modified Competitive | Bell A Grazing Cooperative, Thompson Ranches, Inc.
OR-61556 | T.26 S., R.34 E., sec. 17, N½SE¼, SE¼SE¼ | 120.00 | 9,700 | Modified Competitive | Nevin L. and Shirley M. Thompson.
OR-61557 | T.26 S., R.34 E., sec. 22, SW¼NE¼ | 40.00 | 3,200 | Modified Competitive | Walter B. Smith Estate, Nevin L. and Shirley M. Thompson.
OR-61558 | T.26 S., R.34 E., sec. 28, NE¼NE¼ | 40.00 | 3,200 | Modified Competitive | Nevin L. and Shirley M. Thompson, Zachary O. Sword.
OR-61559 | T.27 S., R.31 E., sec. 5, S½SW¼, SW¼SE¼; sec. 8, W½ | 440.00 | 48,400 | Competitive | None.
OR-61560 | T.27 S., R.31 E., sec. 6, E½SW¼, SE¼ | 240.00 | 28,800 | Competitive | None.
OR-61561 | T.27 S., R.34 E., sec. 9, SW¼NE¼, W½SE¼, SE¼SE¼ | 160.00 | 18,400 | Competitive | None.
OR-62938 | T.22 S., R.33 E., sec. 19, lot 4; sec. 30, lots 1, and 2, E½NW¼ | 185.81 | 33,100 | Modified Competitive | Rattlesnake Creek Land and Cattle Co., Gene Watson., Don G. Toelle—Trustee, and John L. Toelle.
OR-63606 | T.25 S., R.31 E., sec. 19, NE¼SE¼ | 40.00 | 7,200 | Modified Competitive | Juniper Basin Ranch, Stanley L. and Barbara F. Kull.
Total |  | 2,905.42

The sale will include all mineral interests of the United States unless otherwise noted below.

The following will be included in, and will survive, the sale and conveyances of the land:

All Parcels

1. A right-of-way for ditches and canals will be reserved to the United States under the authority of the Act of August 30, 1890 (26 Stat. 291; 43 U.S.C. 945).

2. A notice and indemnification statement under the Comprehensive Environmental Response, Compensation and Liability Act (CERCLA). All parcels are subject to the requirements of Section 120(h) (42 U.S.C. 9620) holding the United States harmless from any release of hazardous materials that may have occurred as a result of the unauthorized use of the property by other parties.

3. No representation, warranty, or covenant of any kind, express or implied, is given or made by the United States as to access to or from any parcel of land, the title, whether or to what extent the land may be developed, its physical condition, present or potential uses, or any other circumstance or condition.

4. All conveyance documents will be issued subject to all valid existing rights and reservations of record. All persons, other than the successful bidders, claiming to own unauthorized improvements on the land are allowed 60 days from the date of sale to remove the improvements.

OR-61543 and OR-61544

1. A wetland/riparian covenant pursuant to the authority contained in Section (4) of Executive Order 11990 of May 24, 1977.

2. A flood plain covenant pursuant to the authority contained in Section 3(d) of Executive Order 11988 of May 24, 1977.

OR-61545

1. A reservation to the United States of all geothermal steam resources subject to the provisions of the Act of December 24, 1970 (84 Stat. 1566).

2. A wetland/riparian covenant pursuant to the authority contained in Section (4) of Executive Order 11990 of May 24, 1977.

3. A flood plain covenant pursuant to the authority contained in Section 3(d) of Executive Order 11988 of May 24, 1977.

OR-61547

1. A flood plain covenant pursuant to the authority contained in Section 3(d) of Executive Order 11988 of May 24, 1977.

2. A reservation for a road right-of-way for access to the Malheur National Wildlife Refuge held by the U.S. Fish and Wildlife Service.

OR-61549, OR-61550, OR-61551

1. A flood plain covenant pursuant to the authority contained in Section 3(d) of Executive Order 11988 of May 24, 1977.

OR-62938

1. A reservation to the United States for a right-of-way for access road purposes.

2. A portion of the property (150.65 acres) will be conveyed by quitclaim deed issued by the United States. Mineral estate is held by a third party and cannot be conveyed by the United States.

3. Remaining 35.16 acres will be conveyed by patent and will include all mineral interests of the United States.

It is recommended that before submitting a bid, a prospective purchaser obtain a title search, conduct an inspection of the property and check with the appropriate city or county planning department to verify approved uses.

The land described herein is hereby segregated from appropriation under the public land laws, including the mining laws, pending disposition of the action or 270 days from the date of publication of this notice, whichever occurs first.

Competitive Bidding Procedures

The Federal Land Policy and Management Act and its implementing sale regulations at 43 CFR part 2710 provide that competitive bidding will be the general method of selling land supported by factors such as competitive interest, accessibility, and usability of the parcel, regardless of adjacent ownership.

Under competitive procedures the land will be sold to any qualified bidder submitting the highest bid. Bidding will be by sealed bid followed by an oral auction to be held at 2 p.m. PST on Wednesday, December 13, 2006, at the Burns District Office, Bureau of Land Management, 28910 Hwy 20 West, Hines, Oregon.

To qualify for the oral auction bidders must submit a sealed bid meeting the requirements as stated below. The highest valid sealed bid will become the starting bid for the oral auction. Bidding in the oral auction will be in minimum increments of $100. The highest bidder from the oral auction will be declared the prospective purchaser. If no valid bids are received, the parcel will be declared unsold and offered using competitive procedures for unsold parcels on a continuing basis until sold or withdrawn from sale.

Modified Competitive Procedures

Modified competitive procedures are allowed by the regulations at 43 CFR 2710.0-6(c)(3)(ii) to provide exceptions to competitive bidding to assure compatibility with existing and potential land uses.

Under modified competitive procedures the designated bidders identified in the table above will be given the opportunity to match or exceed the apparent high bid.

The apparent high bid will be established by the highest valid sealed bid received in an initial round of public bidding. If two or more valid sealed bids of the same amount are received for the same parcel, that amount shall be determined to be the apparent high bid.

The designated bidders are required to submit a valid bid in the initial round of public bidding to maintain their preference consideration. The bid deposit for the apparent high bid(s) and the designated bidders will be retained and all others will be returned. The bid opening for this initial round of public bidding will be held at 2 p.m. PST on Wednesday, December 13, 2006, at the Burns District Office, BLM.

The designated bidders will be notified by certified mail of the apparent high bid. Where there are two or more designated bidders for a single parcel, they will be allowed 30 days to provide the authorized officer with (i) an agreement as to the division of the property or, (ii) if agreement cannot be reached, sealed bids for not less than the apparent high bid. Failure to submit an agreement or a bid shall be considered a waiver of the option to divide the property equitably and forfeiture of the preference consideration. Failure to act by all of the designated bidders will result in the parcel being offered to the apparent high bidder or being declared unsold, if no bids were received in the initial round of bidding.

Additional Terms and Conditions of Sale

All sealed bids must be submitted to the Burns District Office, at the address stated above, no later than 2 p.m. PST on Wednesday, December 13, 2006, when the bid opening and oral auction will be held.

The outside of bid envelopes must be clearly marked with “BLM Land Sale,” the parcel number and the bid opening date. Bids must be for not less than the appraised market value (minimum bid). Separate bids must be submitted for each parcel. Each sealed bid shall be accompanied by a certified check, postal money order, bank draft, or cashier's check made payable in U.S. dollars to the Department of the Interior-BLM for not less than 20 percent of the amount bid. The bid envelope must also contain a statement showing the total amount bid and the name, mailing address, and phone number of the entity making the bid. A successful bidder for competitive parcels shall make an additional deposit at the close of the auction to bring the total bid deposit up to the required 20 percent of the high bid. Personal checks or cash will be acceptable for this additional deposit only.

If any of the parcels are not sold using the procedures described above, the parcel will be reoffered on a continuing basis in accordance with the procedures described in 43 CFR 2711.3-1. Sealed bids for unsold parcels will be accepted from any qualified bidder and held until the second Wednesday of each month at 2 p.m. PST when they will be opened. Bid openings will take place every month until the parcels are sold or withdrawn from sale. Bids for unsold parcels must meet the requirements described above for sealed bids.

Prospective purchasers will be allowed 180 days to submit the balance of the purchase price. Failure to meet this timeframe shall cause the deposit to be forfeited. The parcel will then be offered to the next lowest qualified bidder, or if no other bids were received, the parcel will be declared unsold.

Federal law requires that public land may be sold only to either (1) citizens of the United States, 18 years of age or over; (2) corporations subject to the laws of any State or of the United States; (3) a State, State instrumentality or political subdivision authorized to hold property; or (4) an entity legally capable of conveying and holding lands or interests therein under the laws of the State within which the lands to be conveyed are located. Certifications and evidence to this effect will be required of the prospective purchaser prior to sale.

A successful bid for a parcel will constitute an application for conveyance of those portions of the mineral estate being conveyed in accordance with Section 209 of the Federal Land Policy and Management Act of 1976 (43 U.S.C. 1719). A nonrefundable fee of $50 will be required from the prospective purchaser for purchase of the mineral interests. Those mineral interests, to be conveyed simultaneously with the sale of the land, have been determined to have no known mineral value.

Public Comments

On or before December 1, 2006, any person may submit written comments regarding the proposed sale to the Three Rivers Resource Area Field Manager at the Burns District Office, Bureau of Land Management, 28910 Hwy 20 West, Hines, Oregon 97738. Comments or protests applicable to a specific parcel must be identified with the appropriate serial number.

Comments, including names, street addresses, and other contact information of respondents, will be available for public review. Individual respondents may request confidentiality. If you wish to request that BLM consider withholding your name, street address, and other contact information (such as Internet address, FAX or phone number) from public review or from disclosure under the Freedom of Information Act, you must state this prominently at the beginning of your comment. The BLM will honor requests for confidentiality on a case-by-case basis to the extent allowed by law. The BLM will make available for public inspection in their entirety all submissions from organizations or businesses, and from individuals identifying themselves as representatives or officials of organizations or businesses.

Detailed information, including appraisal and environmental reports, relative to this public land sale is available on the Internet at http://www.or.blm.gov/Burns or at the Burns District Office during business hours. Inquiries also may be directed to Joan Suther, Field Manager, Skip Renchler or Holly Orr, Realty Specialists, Three Rivers Resource Area, Burns District Office at the above address, or by phone (541) 573-4400.

Objections will be reviewed by the BLM, Burns District Manager, who may sustain, vacate, or modify this realty action. In the absence of any objections, this realty action will become the final determination of the Department of the Interior.

(Authority: 43 CFR 2711.1-2)
Dated: August 28, 2006.
Joan M. Suther,
Three Rivers Resource Area Field Manager.

[FR Doc. E6-17139 Filed 10-16-06; 8:45 am]

BILLING CODE 4310-33-P